DEPARTMENT OF HEALTH AND HUMAN SERVICES

Meeting of the 2015 Hurricane Sandy Conference: Translating Research Into Practice

AGENCY: Department of Health and Human Services, Office of the Secretary.

ACTION: Notice.

SUMMARY: The Department of Health and Human Services (HHS) Office of the Assistant Secretary for Preparedness and Response (ASPR) is hereby giving notice that ASPR will convene a Hurricane Sandy Conference: Translating Research into Practice public meeting on August 10-11, 2015. The purpose of the meeting is to broadly share, with interested stakeholders, outcomes of Hurricane Sandy recovery science research and training projects awarded under ASPR FOAs EP-HIT-13-001 and EP-HIT-14-001, Centers for Disease Control and Prevention (CDC) FOAs TP13-001 and OH13-002, and National Institute of Environmental Health Sciences (NIEHS) FOAs RFA-ES-13-008 and NOT-ES-13-003. Meeting participants will discuss opportunities to build a community of practice around Hurricane Sandy recovery research and the path forward for translating Hurricane Sandy recovery science research results into practice; highlight Hurricane Sandy recovery science grants as a model for disaster research science preparedness; and demonstrate the benefit of Hurricane Sandy recovery research to the impacted communities.

DATES: The 2015 Hurricane Sandy Conference: Translating Research into Practice is scheduled on August 10 from 9 a.m. to 4:30 p.m. EST and on August 11 from 9 a.m. to 12:30 p.m. EST.

ADDRESSES: New York University's Kimmel Center for University Life, 60 Washington Square South, New York City, NY 10010. Registration is required for public attendance. Individuals who wish to attend the meeting should complete the registration via www.PHE.gov/Research2Practice.

FOR FURTHER INFORMATION CONTACT: Please contact sciencepreparedness@hhs.gov for additional information.

SUPPLEMENTARY INFORMATION:

Background: Shortly after Hurricane Sandy, ASPR, CDC, and NIEHS each funded a series of two-year research grants and training awards under the Disaster Relief Appropriations Act of 2013 (Pub. L. 113-2) that examine the long-term recovery of health systems, communities, and workers in the area of the country hardest hit by the storm. As the projects near completion, ASPR is hosting a public conference to share the research products and outcomes broadly with the impacted communities and other stakeholders.

Availability of Materials: The meeting agenda and materials will be posted on www.PHE.gov/Research2Practice prior to the meeting.

Registration for the Public Meeting: Information about registration for the meeting is available at www.PHE.gov/Research2Practice.

Dated: May 22, 2015.
Nicole Lurie,
Assistant Secretary for Preparedness and Response.

[FR Doc. 2015-13050 Filed 5-29-15; 8:45 am]

BILLING CODE 4150-28-P